DEPARTMENT OF HEALTH AND HUMAN SERVICES

Centers for Disease Control and Prevention

Disease, Disability, and Injury Prevention and Control Special Emphasis Panel (SEP): Initial Review

The meeting announced below concerns Capacity Building Assistance for High Impact HIV Prevention, Funding Opportunity Announcement (FOA) PS14-1403, Initial Review.

In accordance with Section 10(a)(2) of the Federal Advisory Committee Act (Pub. L. 92-463), the Centers for Disease Control and Prevention (CDC) announces the aforementioned SEP:

Times and Dates: 8:00 a.m.-8:00 p.m., December 10-12, 2013 (Closed).

Place: Teleconference.

Status: The meeting will be closed to the public in accordance with provisions set forth in Section 552b(c)(4) and (6), Title 5 U.S.C., and the Determination of the Director, Management Analysis and Services Office, CDC, pursuant to Public Law 92-463.

Matters To Be Discussed: The meeting will include the initial review, discussion, and evaluation of applications received in response to “Capacity Building Assistance for High Impact HIV Prevention” FOA PS14-1403.

Contact Person for More Information: Harriette A. Lynch, Public Health Analyst, CDC, 1600 Clifton Road, NE., Mailstop E07, Atlanta, Georgia 30333, Telephone: (404) 718-8837. The Director, Management Analysis and Services Office, has been delegated the authority to sign Federal Register notices pertaining to announcements of meetings and other committee management activities, for both the Centers for Disease Control and Prevention and the Agency for Toxic Substances and Disease Registry.

Catherine Ramadei,
Acting Director, Management Analysis and Services Office, Centers for Disease Control and Prevention.

[FR Doc. 2013-26635 Filed 11-6-13; 8:45 am]

BILLING CODE 4163-18-P